DEPARTMENT OF ENERGY

Federal Energy Regulatory Commission

[Docket No. ER00-2971-000]

UtiliCorp United Inc.; Notice of Filing

June 30, 2000.

Take notice that on June 20, 2000, UtiliCorp United Inc., tendered for filing a notice that the open access transmission tariffs of Missouri Public Service and WestPlains Energy-Kansas are modified, effective May 1, 2000, to incorporate the Mid-Continent Area Power Pool's Line Loading Relief procedures.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 11, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-17168 Filed 7-6-00; 8:45 am]

BILLING CODE 6717-01-M